DEPARTMENT OF THE INTERIOR

National Park Service

[N6369; NPS-WASO-NAGPRA-NPS0040637; PPWOCRADN0-PCU00RP14.R50000]

Notice of Inventory Completion: Grand Rapids Public Museum, Grand Rapids, MI

AGENCY: National Park Service, Interior.

ACTION: Notice.

SUMMARY: In accordance with the Native American Graves Protection and Repatriation Act (NAGPRA), the Grand Rapids Public Museum has completed an inventory of human remains and associated funerary objects and has determined that there is a cultural affiliation between the human remains and associated funerary objects and Indian Tribes or Native Hawaiian organizations in this notice.

DATES: Repatriation of the human remains and associated funerary objects in this notice may occur on or after August 29, 2025.

ADDRESSES: Send written requests for repatriation of the human remains and associated funerary objects in this notice to Alex Forist, Chief Curator, Grand Rapids Public Museum, 272 Pearl Street NW, Grand Rapids, MI 49504, email aforist@grpm.org.

SUPPLEMENTARY INFORMATION: This notice is published as part of the National Park Service's administrative responsibilities under NAGPRA. The determinations in this notice are the sole responsibility of the Grand Rapids Public Museum, and additional information on the determinations in this notice, including the results of consultation, can be found in its inventory or related records. The National Park Service is not responsible for the determinations in this notice.

Abstract of Information Available

Human remains representing at least 10 individuals have been identified (two of which are currently missing). During 1962-1964, human remains representing, at minimum, eight individuals were removed from Norton Mounds (20KT1) in Kent County, MI. This site was excavated by staff from the University of Michigan in cooperation with the Grand Rapids Public Museum (GRPM). The human remains consist of eight fragments of human bone that include: two rib end fragments, three fragments of shaft (these were not accompanied with any context), one fragment of a distal end of the sacrum, and one inferior border fragment. One human manubrium fragment was found in a mix of mammal bones and fill. No known individuals were identified. The two missing human remains include a right tibia fragment and a partial skull which were removed from Norton Mounds in 1894 by Captain Wright L. Coffinberry and/or in 1915 by former museum director Herbert E. Sargent. GRPM continues to look for any missing human remains.

Of the 33 lots of associated funerary objects, 19 are currently present and 14 are currently missing. The 19 present lots of associated funerary objects include ash samples; beads; bird bones (turkey, unknown); drilled tablets; faunal bones; fish bones and scales (catfish, sturgeon, walleye, unknown); historic debris; lithics; mammal bones, claws, and teeth (chipmunk, deer, mole, raccoon, skunk, weasel, woodchuck, unknown); mica; organic materials; rocks; shells (mussel, snail, unknown); sherds; soil samples; textiles; tools (bone, copper, stone); turtle shells and bones; and unknown material. The 14 missing lots of associated funerary objects include beads; bone gorgets; drilled tablets; hematite; limonite; lithics; mammal bones; ochre; organic materials; pipes; rocks; shells (mussel, unknown); tools (copper, stone); and vessels. GRPM continues to look for any missing objects.

The following non-federally recognized Indian groups were invited to consult: the Burt Lake Band of Ottawa and Chippewa and the Grand River Bands of Ottawa Indians.

Cultural Affiliation

Based on the information available and the results of consultation, cultural affiliation is reasonably identified by the geographical location or acquisition history of the human remains and associated funerary objects described in this notice.

Determinations

The Grand Rapids Public Museum has determined that:

• The human remains described in this notice represent the remains of at least 10 individuals of Native American ancestry.

• The 33 lots of objects described in this notice are reasonably believed to have been placed intentionally with or near individual human remains at the time of death or later as part of the death rite or ceremony.

• There is a connection between the human remains and associated funerary objects described in this notice and the Bay Mills Indian Community, Michigan; Citizen Potawatomi Nation, Oklahoma; Forest County Potawatomi Community, Wisconsin; Grand Traverse Band of Ottawa and Chippewa Indians, Michigan; Hannahville Indian Community, Michigan; Keweenaw Bay Indian Community, Michigan; Lac Vieux Desert Band of Lake Superior Chippewa Indians of Michigan; Little River Band of Ottawa Indians, Michigan; Little Traverse Bay Bands of Odawa Indians, Michigan; Match-e-be-nash-she-wish Band of Potawatomi Indians of Michigan; Nottawaseppi Huron Band of the Potawatomi, Michigan; Ottawa Tribe of Oklahoma; Pokagon Band of Potawatomi Indians, Michigan and Indiana; Prairie Band Potawatomi Nation; Red Lake Band of Chippewa Indians, Minnesota; Sac & Fox Nation, Oklahoma; Saginaw Chippewa Indian Tribe of Michigan; and the Sault Ste. Marie Tribe of Chippewa Indians, Michigan.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 29, 2025. If competing requests for repatriation are received, the Grand Rapids Public Museum must determine the most appropriate requestor prior to repatriation. Requests for joint repatriation of the human remains and associated funerary objects are considered a single request and not competing requests. The Grand Rapids Public Museum is responsible for sending a copy of this notice to the Indian Tribes and Native Hawaiian organizations identified in this notice.

(Authority: Native American Graves Protection and Repatriation Act, 25 U.S.C. 3003, and the implementing regulations, 43 CFR 10.10.)

Dated: July 16, 2025.
Mariah Soriano,
Acting Manager, National NAGPRA Program.

[FR Doc. 2025-14371 Filed 7-29-25; 8:45 am]

BILLING CODE 4312-52-P